DEPARTMENT OF ENERGY

Federal Energy Regulatory Commission

Sunshine Act Meetings

The following notice of meeting is published pursuant to section 3(a) of the government in the Sunshine Act (Pub. L. 94-409), 5 U.S.C. 552b: Agency Holding Meeting: Federal Energy Regulatory Commission.

DATE AND TIME: July 28, 2022, 10:00 a.m.

PLACE: Room 2C, 888 First Street NE, Washington, DC 20426.

STATUS: Open to the public.¹

¹ The Commission Meeting is open for attendance from the public. Members of the public who are interested in attending the meeting must adhere to safety and health protocols detailed on the Commission's website to be granted admission into the building. Information on these protocols can be accessed at http://www.ferc.gov.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1092nd—Meeting, Open Meeting
[July 28, 2022, 10:00 a.m.]
Item No. | Docket No. | Company
ADMINISTRATIVE
A-1 | AD22-1-000 | Agency Administrative Matters.
A-2 | AD22-2-000 | Customer Matters, Reliability, Security and Market Operations.
ELECTRIC
E-1 | RM22-13-000 | Credit-Related Information Sharing in Organized Wholesale Electric Markets.
E-2 | EL22-62-000 | California Independent System Operator Corporation.
| EL22-63-000 | ISO New England Inc.
| EL22-64-000 | New York Independent System Operator, Inc.
| EL22-65-000 (not consolidated) | Southwest Power Pool Inc.
E-3 | RM21-11-000 | Accounting and Reporting Treatment of Certain Renewable Energy Assets.
E-4 | EL19-58-007 ER19-1486-004 | PJM Interconnection, L.L.C.
E-5 | ER21-998-002 | Midway Sunset Cogeneration Company.
E-6 | IN79-6-000 | Form 580—Interrogatory on Fuel and Energy Purchase Practices and Sierra Pacific Power Company.
E-7 | EL22-31-000 | Northern Maine Independent System Administrator, Inc. v. ISO New England Participating Transmission Owners Administrative Committee.
MISCELLANEOUS
M-1 | RM22-20-000 | Duty of Candor.
GAS
G-1 | OR19-14-000 | MPLX Ozark Pipe Line LLC.
HYDRO
H-1 | P-14635-001 | Village of Gouverneur, New York.
H-2 | P-77-312 | Pacific Gas and Electric Company.
CERTIFICATES
C-1 | CP95-35-002 | EcoEléctrica, L.P.
C-2 | CP21-470-000 | Freeport LNG Development, L.P., FLNG Liquefaction, LLC, FLNG Liquefaction 2, LLC, and FLNG Liquefaction 3, LLC.
C-3 | CP20-484-001 | ANR Pipeline Company.
C-4 | CP21-29-000 | Gas Transmission Northwest LLC.
C-5 | CP21-179-001 | Nopetro LNG, LLC.
C-6 | CP14-517-001 | Golden Pass LNG Terminal LLC.
C-7 | CP15-554-010 CP15-555-008 | Atlantic Coast Pipeline, LLC. Eastern Gas Transmission and Storage, Inc.

A free webcast of this event is available through http://ferc.capitolconnection.org/. Anyone with internet access who desires to view this event can do so by navigating to www.ferc.gov's Calendar of Events and locating this event in the Calendar. The event will contain a link to its webcast. The Capitol Connection provides technical support for the free webcasts. It also offers access to this event via television in the DC area and via phone bridge for a fee. If you have any questions, visit http://ferc.capitolconnection.org/ or contact Shirley Al-Jarani at 703-993-3104.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Issued: July 21, 2022.
Debbie-Anne A. Reese,
Deputy Secretary.

[FR Doc. 2022-16112 Filed 7-22-22; 4:15 pm]

BILLING CODE 6717-01-P